DEPARTMENT OF COMMERCE

International Trade Administration

[A-570-898]

Chlorinated Isocyanurates From the People's Republic of China: Initiation of New Shipper Review

AGENCY: Import Administration, International Trade Administration, Department of Commerce.

DATES: Effective Date: February 4, 2011.

SUMMARY: The Department of Commerce (the “Department”) has determined that a request for a new shipper review of the antidumping duty order on chlorinated isocyanurates from the People's Republic of China (“PRC”), received on December 20, 2010, meets the statutory and regulatory requirements for initiation. The period of review (“POR”) of this new shipper review is June 1, 2010, through December 31, 2010.

FOR FURTHER INFORMATION CONTACT: Krisha Hill or Charles Riggle, AD/CVD Operations, Office 8, Import Administration, International Trade Administration, U.S. Department of Commerce, 14th Street and Constitution Avenue, NW., Washington, DC 20230; telephone: (202) 482-4037 and (202) 482-0650, respectively.

SUPPLEMENTARY INFORMATION:

Background

The notice announcing the antidumping duty order on chlorinated isocyanurates from the PRC was published in the Federal Register on June 24, 2005. See Notice of Antidumping Duty Order: Chlorinated Isocyanurates From the People's Republic of China, 70 FR 36561 (June 24, 2005). On December 20, 2010, we received a timely request for a new shipper review from Heze Huayi Chemical Co. Ltd., (“Heze Huayi”) in accordance with 19 CFR 351.214(c) and 351.214(d). Heze Huayi has certified that it produced all of the chlorinated isocyanurates it exported, which is the basis for its request for a new shipper review.

Pursuant to the requirements set forth in 19 CFR 351.214(b)(2)(i), 19 CFR 351.214(b)(2)(ii) and 19 CFR 351.214(b)(2)(iii), in its request for a new shipper review, Heze Huayi, as an exporter and producer, certified that: (1) It did not export chlorinated isocyanurates to the United States during the period of investigation; (2) since the initiation of the investigation, Heze Huayi has never been affiliated with any company that exported subject merchandise to the United States during the period of investigation; and (3) its export activities were not controlled by the central government of the PRC.

In accordance with 19 CFR 351.214(b)(2)(iv), Heze Huayi submitted documentation establishing the following: (1) The date on which it first shipped chlorinated isocyanurates for export to the United States and the date on which the chlorinated isocyanurates were first entered, or withdrawn from warehouse, for consumption; (2) the volume of its first shipment; and (3) the date of its first sale to an unaffiliated customer in the United States.

The Department conducted U.S. Customs and Border Protection (“CBP”) database queries in an attempt to confirm that Heze Huayi's shipment of subject merchandise had entered the United States for consumption and that liquidation had been properly suspended for antidumping duties. The information which the Department examined was consistent with that provided by Heze Huayi in its request. See Memorandum to The File from Krisha Hill, Analyst, “Initiation of Antidumping New Shipper Review: Chlorinated Isocyanurates, from the People's Republic of China, A-570-898,” (“New Shipper Initiation Checklist”) dated concurrently with this notice, at Page 6. However, the Department has concerns with certain other information contained within the CBP data. Due to the business proprietary nature of this information, please refer to the New Shipper Initiation Checklist for further discussion. The Department intends to address this issue after initiation of the new shipper review.

Period of Review

Pursuant to 19 CFR 351.214(g)(1)(i)(B), the POR for a new shipper review initiated in the month immediately following the semiannual anniversary month, will normally be the six-month period immediately preceding the semiannual anniversary month, in this instance June 1, 2010, through November 30, 2010. However, when the new shipper's first shipment has entered after the POR, the Department may expand the POR, unless an expansion would be likely to prevent the completion of the review within the time limits set by the Department's regulations. See 19 CFR 351.214(f)(2)(ii). The documentation provided by Heze Huayi indicates that its first shipment entered one day after the end of the six-month POR, and that its first sale to an unaffiliated customer occurred during the six-month POR. In accordance with 19 CFR 351.214(f)(2)(ii), we are extending the POR by 31 days to December 31, 2010, to capture the entry of Heze Huayi's first shipment. The Department finds that this delay does not prevent the completion of the review within the time limits set by the Department's regulations. Therefore, the POR for this new shipper review is June 1, 2010, through December 31, 2010.

Initiation of New Shipper Review

Pursuant to section 751(a)(2)(B) of the Tariff Act of 1930, as amended (the “Act”) and 19 CFR 351.214(d)(1), we find that the request submitted by Heze Huayi meets the threshold requirements for initiation of a new shipper review for shipments of chlorinated isocyanurates from the PRC produced and exported by Heze Huayi. See Memorandum to the File through Wendy Frankel, Office Director, New Shipper Initiation Checklist, dated concurrently with this notice. However, if the information supplied by Heze Huayi is later found to be incorrect or insufficient during the course of this proceeding, the Department may rescind the review or apply adverse facts available pursuant to section 776 of the Act, depending upon the facts on record.

The Department intends to issue the preliminary results of this NSR no later than 180 days from the date of initiation, and the final results no later than 90 days from the issuance of the preliminary results. See section 751(a)(2)(B)(iv) of the Act.

It is the Department's usual practice, in cases involving non-market economies, to require that a company seeking to establish eligibility for an antidumping duty rate separate from the country-wide rate provide evidence of de jure and de facto absence of government control over the company's export activities. Accordingly, we will issue a questionnaire to Heze Huayi, which will include a separate rate section. The review will proceed if the response provides sufficient indication that Heze Huayi is not subject to either de jure or de facto government control with respect to its export of chlorinated isocyanurates.

We will instruct CBP to allow, at the option of the importer, the posting, until the completion of the review, of a bond or security in lieu of a cash deposit for each entry of the subject merchandise from Heze Huayi in accordance with section 751(a)(2)(B)(iii) of the Act and 19 CFR 351.214(e). Because Heze Huayi certified that it both produced and exported the subject merchandise, the sale of which is the basis for this new shipper review request, we will apply the bonding privilege to Heze Huayi only for subject merchandise which Heze Huayi both produced and exported.

Interested parties requiring access to proprietary information in this new shipper review should submit applications for disclosure under administrative protective order in accordance with 19 CFR 351.305 and 19 CFR 351.306.

This initiation and notice are in accordance with section 751(a)(2)(B) of the Act and 19 CFR 351.214 and 19 CFR 351.221(c)(1)(i).

Dated: January 31, 2011.
Christian Marsh,
Deputy Assistant Secretary for Antidumping and Countervailing Duty Operations.

[FR Doc. 2011-2526 Filed 2-3-11; 8:45 am]

BILLING CODE 3510-DS-P